DEPARTMENT OF TRANSPORTATION

Coast Guard

[USCG 2001-9009]

Collection of Information Under Review by Office of Management and Budget (OMB): OMB Control Number 2115-0073

AGENCY: Coast Guard, DOT.

ACTION: Request for comments.

SUMMARY: In compliance with the Paperwork Reduction Act of 1995, the Coast Guard intends to seek the approval of OMB for the renewal of one Information Collection Request (ICR). The ICR comprises Alternative Compliance for International and Inland Navigation Rules—33 CFR Parts 81 and 89. Before submitting the ICR to OMB, the Coast Guard is requesting comments on the ICR described below.

DATES: Comments must reach the Coast Guard on or before May 18, 2001.

ADDRESSES: You may mail comments to the Docket Management System (DMS) [USCG 2001-9009], U.S. Department of Transportation (DOT), room PL-401, 400 Seventh Street SW., Washington, DC 20590-0001, or deliver them to room PL-401, located on the Plaza Level of the Nassif Building at the same address between 9 a.m. and 5 p.m., Monday through Friday, except Federal holidays. The telephone number is 202-366-9329.

The DMS maintains the public docket for this request. Comments will become part of this docket and will be available for inspection or copying in room PL-401, located on the Plaza Level of the Nassif Building at the above address between 9 a.m. and 5 p.m., Monday through Friday, except Federal holidays. You may also access this docket on the Internet at http://dms.dot.gov.

Copies of the complete ICR are available through this docket on the Internet at http://dms.dot.gov and also from Commandant (G-CIM-2), U.S. Coast Guard Headquarters, room 6106 (Attn: Barbara Davis), 2100 Second Street SW., Washington, DC 20593-0001. The telephone number is 202-267-2326.

FOR FURTHER INFORMATION CONTACT: Barbara Davis, Office of Information Management, 202-267-2326, for questions on this document; or Dorothy Beard, Chief, Documentary Services Division, U.S. Department of Transportation, 202-366-5149, for questions on the docket.

Request for Comments

The Coast Guard encourages interested persons to submit written comments. Persons submitting comments should include their names and addresses, identify this document [USCG 2001-9009], and give the reason for the comments. Please submit all comments and attachments in an unbound format no larger than 8½ by 11 inches, suitable for copying and electronic filing. Persons wanting acknowledgment of receipt of comments should enclose stamped self-addressed postcards or envelopes.

Information Collection Request

1. Title: Alternative Compliance for International and Inland Navigation Rules—33 CFR Parts 81 and 89.

OMB Control Number: 2115-0073.

Summary: The information collected provides an opportunity for the owner, operator, builder, or agent of a unique vessel to present her or his reasons why the vessel cannot comply with existing International or Inland Navigation Rules and how it might achieve alternative compliance. If one is appropriate, the Coast Guard issues a Certificate of Alternative Compliance.

Need: Certain vessels cannot comply with the International Navigation Rules (33 U.S.C. chapter 30) or Inland Navigation Rules (33 U.S.C. chapter 34). The Coast Guard therefore provides an opportunity for alternative compliance. However, it cannot determine whether alternative compliance is appropriate, or what kind of alternative compliance might be necessary, without this collection.

Respondents: Owners, operators, builders, and agents of vessels.

Frequency: One-time application.

Burden Estimate: The estimated burden is 153 hours a year.

Dated: March 5, 2001.
V.S. Crea,
Director of Information and Technology.

[FR Doc. 01-6742 Filed 3-16-01; 8:45 am]

BILLING CODE 4910-15-U